FEDERAL COMMUNICATIONS COMMISSION

47 CFR Part 73

[DA 02-2514, MM Docket No. 01-11, RM-10027, and RM-10322]

Radio Broadcasting Services; Arcadia, Desert Hot Springs, Fallbrook, Murrieta, and Yucca Valley, CA

AGENCY: Federal Communications Commission.

ACTION: Final rule.

SUMMARY: This document allots Channel 281A to Murrieta, California, as a first local aural service in response to a rulemaking petition filed by Helen Jones. See 66 FR 8559, February 1, 2001. The coordinates for Channel 281A at Murrieta are 33-32-55 and 117-09-26. The document also denies a counterproposal filed by Big City Radio-LA, L.L.C., to upgrade Station KLYY(FM), Arcadia, California, from Channel 296A to Channel 296B1. To accommodate the upgrade, the counterproposal also proposed to substitute 281A for Channel 296A for Station KSYY(FM), Fallbrook California, and to downgrade, reallot, and change the community of license of Station KYOR(FM), Channel 295B, Yucca Valley, California, to Channel 295B1 at Desert Hot Springs, California. The staff reasoned that the counterproposal could not be granted because the Commission's policies and rules do not permit pre-1964 grandfathered, short-spaced stations such as KLYY(FM) to upgrade channel class with short-spacings to stations on second or third adjacent FM channels.

DATES: Effective November 25, 2002.

FOR FURTHER INFORMATION CONTACT: Andrew J. Rhodes, Media Bureau, (202) 418-2180.

SUPPLEMENTARY INFORMATION: This is a synopsis of the Commission's Report and Order in MM Docket No. 01-11, adopted September 25, 2002, and released October 9, 2002. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by adding Murrieta, Channel 281A.

Federal Communications Commission.
John A. Karousos,
Assistant Chief, Audio Division, Media Bureau.

[FR Doc. 02-27326 Filed 10-25-02; 8:45 am]

BILLING CODE 6712-01-P